DEPARTMENT OF THE INTERIOR

Bureau of Land Management

[NV-065-1990]

Notice of Intent To Prepare an Environmental Impact Statement for the Gold Hill Project, Nye County, NV

AGENCY: Bureau of Land Management, Interior; Forest Service, Agriculture.

ACTION: Notice of Intent (NOI) to prepare an Environmental Impact Statement (EIS) to analyze the Proposed Plan of Operations for Gold Hill Project and notice of scoping period.

SUMMARY: Pursuant to section 102(2)(c) of the National Environmental Policy Act of 1969, 40 Code of Federal Regulations subparts 1500-1508, and 43 Code of Federal Regulations subpart 3809, notice is hereby given that the Bureau of Land Management (BLM), Battle Mountain District, Tonopah Field Station, and the U.S. Department of Agriculture, Forest Service (USFS), Tonopah Ranger District as a cooperating agency, will be directing the preparation of an EIS for the gold Hill Project, a proposed gold mine located on public lands in Nye County, Nevada. Round Mountain Gold Corporation (RMGC) has submitted a 43 CFR 3809 Plan of Operations to the BLM for the proposed mining project. A third-party contractor will prepare the EIS under the direction of the BLM.

During the scoping period, the Gold Hill Plan of Operations (Plan) will be presented to the local public during scoping meetings to be held in Round Mountain and Tonopah, Nevada. The BLM invites public comment on the scope of the analysis.

DATES: This notice initiates a 45-day public scoping period. Written comments on the scope of the EIS should be post-marked or otherwise delivered by 4:30 p.m. by May 27, 2004 to ensure full consideration. The public will be notified of the two scoping meetings through the local news media at least 15 days prior to the meetings.

ADDRESSES: Scoping comments should be sent to the Bureau of Land Management, Battle Mountain Field Office, Attention: George Deverse, Bureau of Land Management, P.O. Box 911, Tonopah, NV 89049. Comments, including names and street addresses of respondents, will be available for public review at the Tonopah Field Station, Tonopah, Nevada, during regular business hours, and may be published as part of the EIS. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: George Deverse at the BLM Tonopah address or call (775) 482-7800.

SUPPLEMENTARY INFORMATION: Round Mountain Gold Corporation has submitted a Plan of Operations (43 CFR 3809) for a gold mine (the Gold Hill Project), located 7 miles east of the town of Carvers, Nevada. The historic Gold Hill mine and mill operated in the 1930's within the proposed Gold Hill project area. The proposed Gold Hill Project is located in Nye County, Nevada, on public lands in sections 28, 29, 32, and 33, T. 11 N., R. 44 E., and sections 4, 5 and 6, T. 10 N., R. 44 E., Mount Diablo Meridian. The Project would disturb approximately 1,600 acres of public land. Major facilities at the proposed mine include two open pits of 380 acres and 105 acres in size. Gold-bearing ore and waste rock would be drilled, blasted, loaded and hauled from the open pits. Lower-grade gold ore would be loaded on the heap leach pad (280 acres) for chemical dissolution of the gold by a solution of sodium cyanide. Higher-grade ore would be trucked to a mill at the existing Round Mountain Gold mine located 5 miles to the south of the Gold Hill Project. Waste rock would be hauled to a waste rock dump (640 acres). The planned disturbances also include process plant (25 acres) for extraction of the gold and a network of access and haul roads (170 acres).

The U.S. Department of Agriculture, Forest Service, Tonopah Ranger District will be a cooperating agency in the preparation of the EIS. Other Federal, State of Nevada, local agencies, tribal entities and public organizations that may be interested in or affected by the proposed action are invited to participate in the scoping process and, if eligible, may request, or be requested by the BLM to participate as a cooperating agency.

Mark Storzer,
Associate Field Manager, Battle Mountain Field Office.

[FR Doc. 04-8155 Filed 4-9-04; 8:45 am]

BILLING CODE 4310-HC-P